SECURITIES AND EXCHANGE COMMISSION

Issuer Delisting; Notice of Application of The Goodyear Tire & Rubber Company To Withdraw From Listing and Registration its Common Stock, No Par Value, and Preferred Stock Purchase Rights From the Pacific Exchange, Inc. File No. 1-01927

April 17, 2003.

The Goodyear Tire & Rubber Company, an Ohio corporation (“Issuer”), has filed an application with the Securities and Exchange Commission (“Commission”), pursuant to section 12(d) of the Securities Exchange Act of 1934 (“Act”) ¹ and Rule 12d2-2(d) thereunder,² to withdraw its common stock, no par value, and preferred stock purchase rights (“Securities”), from listing and registration on the Pacific Exchange, Inc. (“PCX” or “Exchange”).

¹ 15 U.S.C. 78l(d).

² 17 CFR 240.12d2-2(d).

The Board of Directors (“Board”) of the Issuer approved a resolution on February 4, 2003 to withdraw its Securities from listing on the Exchange. In making its decision to delist its Securities from the PCX the Issuer notes that various listing fees and other expenses could be avoided if the Company were to delist its Securities. The Issuer states that the Securities continue to be listed on the New York Stock Exchange, Inc.

The Issuer stated in its application that it has complied with the rules of the PCX that govern the removal of securities from listing and registration on the Exchange. The Issuer's application relates solely to the withdrawal of the Securities from listing and registration on the PCX and from registration under section 12(b) ³ of the Act and shall not affect its obligation to be registered under section 12(g) of the Act.⁴

Any interested person may, on or before May 9, 2003, submit by letter to the Secretary of the Securities and Exchange Commission, 450 Fifth Street, NW., Washington, DC 20549-0609, facts bearing upon whether the application has been made in accordance with the rules of the PCX and what terms, if any, should be imposed by the Commission for the protection of investors. The Commission, based on the information submitted to it, will issue an order granting the application after the date mentioned above, unless the Commission determines to order a hearing on the matter.

³ 15 U.S.C. 78l(b).

⁴ 15 U.S.C. 78l(g).

For the Commission, by the Division of Market Regulation, pursuant to delegated authority.⁵

⁵ 17 CFR 200.30-3(a)(1).

Jonathan G. Katz,
Secretary.

[FR Doc. 03-10013 Filed 4-22-03; 8:45 am]

BILLING CODE 8010-01-P